ENVIRONMENTAL PROTECTION AGENCY

40 CFR Part 52

[EPA-R09-OAR-2011-0545; FRL-9447-4]

Revisions to the California State Implementation Plan, South Coast Air Quality Management District (SCAQMD)

AGENCY: Environmental Protection Agency (EPA).

ACTION: Final rule.

SUMMARY: EPA is finalizing approval of revisions to the SCAQMD portion of the California State Implementation Plan (SIP). These revisions were proposed in the Federal Register on October 5, 2010 and concern volatile organic compound (VOC) emissions from architectural coatings. We are approving a local rule that regulates these emission sources under the Clean Air Act as amended in 1990 (CAA or the Act).

DATES: Effective Date: This rule is effective on September 16, 2011.

ADDRESSES: EPA has established docket number EPA-R09-OAR-2011-0545 for this action. Generally, documents in the docket for this action are available electronically at http://www.regulations.gov or in hard copy at EPA Region IX, 75 Hawthorne Street, San Francisco, California. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: David Grounds, EPA Region IX, (415) 972-3019, grounds.david@epa.gov.

SUPPLEMENTARY INFORMATION: Throughout this document, “we,” “us” and “our” refer to EPA.

Table of Contents

I. Proposed Action

II. Public Comments and EPA Responses

III. EPA Action

IV. Statutory and Executive Order Reviews

I. Proposed Action

On October 5, 2010 (75 FR 61367), EPA proposed to approve the following rule into the California SIP.

Local agency | Rule No. | Rule title | Adopted | Submitted
SCAQMD | 1113 | Architectural Coatings | 07/13/07 | 03/07/08

We proposed to approve this rule because we determined that it complied with the relevant CAA requirements. Our proposed action contains more information on the rule and our evaluation.

II. Public Comments and EPA Responses

EPA's proposed action provided a 30-day public comment period. During this period, we received comments from the following parties.

1. Dan Pourreau and Dave Roznowski, Lyondell Chemical; letter dated October 25, 2010.

2. David Darling, American Coatings Association; letter dated November 3, 2010.

The comments and our responses are summarized below.

Comment #1: Lyondell Chemical commented that, in 2009, they requested that EPA remove all reporting and recordkeeping requirements for tertiary-butyl acetate (TBAc), but has not yet received a formal response from EPA. Lyondell's comment requests that EPA respond to the 2009 request by removing the unique tracking requirement for TBAc and moving TBAc to the 40 CFR 51.100(s)(1) list of exempt compounds. Lyondell further requests that EPA remove the proposed recommendation to include a recordkeeping requirement for future Rule 1113 revisions, because this is complicating the rule development process and making TBAc a less attractive VOC-compliance option than it should be regarding Rule 1113 as well as coatings subject to other South Coast rules.

In support of these requests, Lyondell states that EPA is not using the TBAc data for modeling purposes and does not require reporting for any other exempt compound with “borderline” reactivity, that TBAc has low toxicity and negligible environmental impact, and that reporting and tracking its emissions does not help protect human health or the environment. Lyondell also states most States do not track and report TBAc emissions. Lyondell feels that tracking and reporting TBAc emissions is a new and burdensome requirement, and that Lyondell has provided and continues to provide TBAc sales data by State to the EPA, so requiring that users and the States also report emissions is redundant, an unnecessary bureaucratic burden, and fraught with error.

American Coatings Association (ACA) similarly objects to EPA's recordkeeping recommendations on the grounds that the reporting and recordkeeping requirements created in 2004 specifically for TBAc in 40 CFR 51.100(s)(5) are burdensome, arbitrary, contrary to the goals of the CAA, and should be rescinded.

Response #1: Similar comments were summarized and replied to in EPA's final action to revise treatment of TBAc in 40 CFR 51.100(s)(5) (See 69 FR 69298, November 29, 2004). The comments have not provided new information that changes EPA's previous response to these issues. In addition, we note that TBAc is only addressed in recommendations discussed in the preamble to today's action. Today's final action does not require any revisions to South Coast's treatment of TBAc.

Comment #2: ACA states it is questionable whether the Averaging Compliance Option is an Economic Incentive Program (EIP) as defined in EPA's guidance. Emissions occur during the activity of applying coatings, which is not regulated under Rule 1113. The limits of Rule 1113 apply to the VOC contents, not emissions, of coating expressed as mass of VOC per volume of coating, not activity level. ACA further comments that, given the extremely low limits of Rule 1113, additional discounting is not feasible for specific compliance, averaging compliance, or a combination of the two.

Response #2: As ACA noted, part of the regulatory approach in architectural coatings requires manufacturers to meet specified VOC standards in their products. EPA's EIP guidance applies broadly and is not limited to only direct emitters of pollution. EIP is defined as a program which may include State established measures directed toward stationary, area, and/or mobile sources, to achieve emissions reductions milestones, to attain and maintain ambient air quality standards, and/or provide more flexible, lower-cost approaches to meeting environmental goals. The Averaging Compliance Option in Rule 1113 provides manufacturers a more flexible and potentially lower cost approaches to meeting the standards. As such, Rule 1113 is an EIP. Please see page 158 of the EIP Guidance (see http://www.epa.gov/ttn/oarpg/t1/memoranda/eipfin.pdf).

Comment #3: ACA states that a shorter averaging period is not feasible because of the complexity involved in gathering and verifying retail sales data, and making program adjustments to ensure continuous compliance.

Response #3: The recommendation was made based on the EIP guidance. However, after a review of the provision, we feel an averaging period longer than 30 days is acceptable for this rule. Therefore, we are no longer recommending the district reduce the averaging period to 30 days or less and we have communicated this to the district.

III. EPA Action

No comments were submitted that change our assessment that the submitted rules comply with the relevant CAA requirements. Therefore, as authorized in section 110(k)(3) of the Act, EPA is fully approving these rules into the California SIP.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 17, 2011. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Reporting and recordkeeping requirements, Volatile organic compounds.

Dated: July 18, 2011.
Jared Blumenfeld,
Regional Administrator, Region IX.

Part 52, Chapter I, Title 40 of the Code of Federal Regulations is amended as follows:

PART 52—[AMENDED]

1. The authority citation for Part 52 continues to read as follows:

Authority: 42 U.S.C. 7401 et seq.

Subpart F—California

2. Section 52.220 is amended by adding paragraph (c)(354)(i)(A)(5) to read as follows:

§ 52.220 Identification of plan.

* * * * *

(c) * * *

(354) * * *

(i) * * *

(A) * * *

(5) Rule 1113, “Architectural Coatings,” amended on July 13, 2007.

* * * * *

[FR Doc. 2011-20842 Filed 8-16-11; 8:45 am]

BILLING CODE 6560-50-P